DEPARTMENT OF EDUCATION

34 CFR Part 300

RIN 1820-AB57

Assistance to States for the Education of Children With Disabilities and Preschool Grants for Children With Disabilities; Corrections

AGENCY: Office of Special Education Programs, Department of Education.

ACTION: Correcting amendments.

SUMMARY: The Department of Education published final regulations in the Federal Register on August 14, 2006, to implement changes made to the Individuals with Disabilities Education Act by the Individuals with Disabilities Education Improvement Act of 2004. That document inadvertently included minor technical errors. This document corrects the final regulations.

DATES: Effective October 30, 2007.

FOR FURTHER INFORMATION CONTACT: Suzanne Sheridan, U.S. Department of Education, 400 Maryland Avenue, SW., Room 6E229, Washington, DC 20202. Telephone: (202) 401-6025.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: This document corrects technical errors included in the final regulations which were published in the Federal Register on August 14, 2006 (71 FR 46540).

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

You may also view this document in text or PDF at the following site: http://ifap.ed.gov/IFAPWebApp/currentFRegistersPag.jsp.

Note: The official version of this document is the document published in the Federal Register. Free Internet access to the official edition of the Federal Register and the Code of Federal Regulations is available on GPO access at: http://www.gpoaccess.gov/nara/index.html.

(Catalog of Federal Domestic Assistance Numbers: Assistance to States for the Education of Children with Disabilities (84.027) and Preschool Grants for Children with Disabilities (84.173))

List of Subjects in 34 CFR Part 300

Administrative practice and procedure, Education of individuals with disabilities, Elementary and secondary education, Equal educational opportunity, Grant programs—education, Privacy, Private schools, Reporting and recordkeeping requirements.

Accordingly, 34 CFR part 300 is corrected by making the following correcting amendments:

PART 300—ASSISTANCE TO STATES FOR THE EDUCATION OF CHILDREN WITH DISABILITIES

1. The authority citation for part 300 continues to read as follows:

Authority: 20 U.S.C. 1221e-3, 1406, 1411-1419, unless otherwise noted.

§ 300.8 [Corrected]

2. In § 300.8(c)(3), add the punctuation “,” after the word, “amplification”.

§ 300.9 [Corrected]

3. In § 300.9 —

A. In paragraph (a), remove the word “other” and add, in its place, the words “through another”; and

B. In paragraph (c)(1), remove the word “anytime” and add, in its place, the words “any time”.

§ 300.18 [Corrected]

4. In § 300.18 —

A. In the heading for paragraph (c), add the word “academic” before the word “achievement”;

B. In the introductory text in paragraph (c), add the word “academic” before the word “achievement”;

C. In paragraph (c)(2), add the words “alternate academic achievement” before the word “standards”; and

D. In the introductory text of paragraph (e), remove the word “meets” and add, in its place, the word “meet”.

§ 300.103 [Corrected]

5. In § 300.103(a), add the word “that” after the word “support”.

§ 300.118 [Corrected]

6. In § 300.118, remove the word “for” that appears after the word “supervision” and add, in its place, the word “of”.

§ 300.137 [Corrected]

7. In § 300.137(b)(1), remove the citation “§ 300.134(c)” and add, in its place, the citation “§ 300.134(d)”.

§ 300.162 [Corrected]

8. In § 300.162(c)(1), remove the citation “§ 300.202” and add, in its place, the citation “§ 300.203”.

§ 300.172 [Corrected]

9. In the introductory text of § 300.172(c)(1), remove the word “must” that appears before the word “enter”.

§ 300.181 [Corrected]

10. In § 300.181(c)(5), remove the citation “(b)(4)” and add, in its place, the citation “(c)(4)”.

§ 300.301 [Corrected]

11. In § 300.301(a), remove the phrase “§§ 300.305 and 300.306” and add, in its place, the phrase “§§ 300.304 through 300.306”.

§ 300.305 [Corrected]

12. In the introductory text of § 300.305(d)(1), remove the word “of' ” and add, in its place, the word “of”.

§ 300.306 [Corrected]

13. In § 300.306(a)(1), remove the citation “paragraph (b)” and add, in its place, the citation “paragraph (c)”.

§ 300.320 [Corrected]

14. In § 300.320(a)(2)(ii), add the word “academic” before the word “achievement”.

§ 300.321 [Corrected]

15. In § 300.321(a)(3), remove the word “then” and add, in its place, the word “than”.

§ 300.504 [Corrected]

16. In the introductory text of § 300.504(c), remove the citation “§ 300.520,”.

§ 300.506 [Corrected]

17. In § 300.506(b)(7), add a new paragraph designation “(8)” before the word “Discussions”.

§ 300.510 [Corrected]

18. In § 300.510(e), remove the citation “paragraph (c)” and add, in its place, the citation “paragraph (d)”.

§ 300.704 [Corrected]

19. In § 300.704(a)(2)(ii), remove the word “For” and add, in its place, the word “for”.

§ 300.812 [Corrected]

20. In § 300.812(b)(2), remove the word “For” and add, in its place, the word “for”.

§ 300.533 [Corrected]

21. In § 300.533, remove the citation “§ A300.530(c)” and add, in its place, the citation “§ 300.530(c)”.

Appendix E to Part 300—[Corrected]

22. Under the term “ALTERNATE ASSESSMENTS”, in the first entry, add the word “academic” before the word “achievement”.

23. Under the term “HIGHLY QUALIFIED TEACHER (R-Z)”, in the second entry, add the word “academic” before the word “achievement”.

Dated: October 24, 2007.
William W. Knudsen,
Deputy Assistant Secretary for Special Education and Rehabilitative Services.

[FR Doc. E7-21338 Filed 10-29-07; 8:45 am]

BILLING CODE 4000-01-P